DEPARTMENT OF ENERGY

Federal Energy Regulatory Commission

[Docket No. CP02-7-000]

Transcontinental Gas Pipe Line Corporation; Notice of Request Under Blanket Authorization

October 23, 2001.

Take notice that on October 15, 2001,Transcontinental Gas Pipe Line Corporation (Transco), P.O. Box 1396, Houston, Texas 77251, pursuant to sections 157.205 and 157.208 of the Federal Energy Regulatory Commission's (the Commission) Regulations under the Natural Gas Act (NGA), as amended, and blanket certificate authority granted in Docket No. CP82-426-000, filed in Docket No. CP02-7-00 a request for authorization to modify all of its existing reciprocating engines at Compressor Station No. 30 in Wharton County, Texas in order to comply with the State of Texas plan to implement the Clean Air Act Amendments of 1990 (Station 30 has 7 reciprocating/compressor units), all as more fully set forth in the request, which is on file with the Commission, and open for public inspection. This filing may be viewed on the web at http://www.ferc.gov using the “RIMS” link, select “Docket #” from the RIMS Menu and follow the instructions (please call 202-208-2222 for assistance).

Transco states that it plans to install turbochargers and associated equipment on all 7 of the reciprocating engines in order to reduce NOX emissions. These engines currently do not have turbochargers on them. At all 7 engines, emissions will be reduced by achieving a true lean air-fuel ratio, injecting high pressure fuel directly into the power cylinders and making other engine adjustments. The injection of high pressure fuel directly into the power cylinders significantly improves the combustion process by producing a more homogeneous mixture of air and fuel within the power cylinder. The true lean air-fuel ratio coupled with the high pressure fuel injection works by promoting stable combustion characteristics and thus reduces the formation of NOX. Transco further states that, following installation of the turbochargers, the 7 engines will have the potential to perform above their current operating horsepower. However, it is stated that, since Station 30 is automated, Transco has the ability to shut down certain engines or reduce their load to ensure that the station will not operate above the station's total certificated horsepower. Since Transco will install these turbochargers at Station 30 solely to achieve an environmental improvement, i.e., lower NOX emissions, it is stated that Transco has no intent or need to operate the station above its certificated horsepower. Therefore, Transco states that when it installs these turbochargers at Station 30 it will adjust the automation program at the station so that it will not operate above its certificated horsepower. Accordingly, there will be no increase in the capacity of Transco's system in the vicinity of the station as a result of installing the 7 new turbochargers.

Transco states that installation of new turbochargers at Station 30 will require some work to be done outside of the compressor building. A fuel gas header designed to bring high pressure fuel gas to each individual reciprocating unit will extend from the yard to the building with a supply to each unit. A new power supply building with approximate dimensions of 13 feet by 35 feet will be installed in the yard to supply uninterrupted power to the new equipment and unit control panels. New fin-fan coolers will be installed in the yard to satisfy the additional cooling requirements of the new turbochargers. Modifications of the type proposed may require the installation of a new utility system which would be built within existing buildings, but may require expanding out from them. All of the proposed work described above will be built within 50 feet of existing station facilities and will be done within the confines of previously disturbed areas. Approximately 1.05 acres of previously disturbed ground will be affected by the proposed project. Restoration of this area will be conducted according to the Commission's Upland Erosion Control, Revegetation, and Maintenance Plan.

Transco states that the above-referenced modifications are estimated to cost $11.9 million.

Transco further states that the installation and operation of the proposed facilities will have no significant impact on the quality of human health or the environment other than the positive impact of reducing NOX emissions. Transco certifies that the proposed facilities will be designed, constructed, operated and maintained in accordance with all applicable safety standards and plans for maintenance and inspection. Accordingly, Transco submits that this project will serve the public convenience and necessity because it will (1) reduce NOX emissions at Station 30, and (2) enable Transco to comply with the Clean Air Act Amendments of 1990 and the state implementation plan pursuant thereto. Transco states that it needs to commence the work at Station 30 in January 2002 in order to complete the work on a timely basis with respect to the requirements of the Clean Air Act Amendments of 1990 and the state implementation plan, while at the same time accommodating the operational needs of its pipeline system and ensuring that Transco's gas service obligations are met. It is stated that a state air permit will be negotiated.

Any questions regarding this filing should be directed to Tom Messick, Transcontinental Gas Pipe Line Corporation, P.O. Box 1396, Houston, Texas 77251, call (713) 215-2772.

Any person or the Commission's staff may, within 45 day after issuance of the instant notice by the Commission, file pursuant to Rule 214 of the Commission's Procedural Rules (18 CFR 385.214) a motion to intervene or notice of intervention and pursuant to section 157.205 of the Regulations under the NGA (18 CFR 157.205), a protest to the request. If no protest is filed within the time allowed therefor, the proposed activity shall be deemed to be authorized effective the day after the time allowed for protest. If a protest is filed and not withdrawn within 30 days after the time allowed for filing a protest, the instant request shall be treated as an application for authorization pursuant to section 7 of the NGA. Comments, protests and interventions may be filed electronically via the Internet in lieu of paper. See, 18 CFR 385.2001(a)(1)(iii) and the instructions on the Commission's web site at http://www.ferc.gov under the link to the User's Guide. If you have not yet established an account, you will need to create a new account by clicking on “Login to File” and then “New User Account”.

David P. Boergers,
Secretary.

[FR Doc. 01-27080 Filed 10-26-01; 8:45 am]

BILLING CODE 6717-01-P